FEDERAL COMMUNICATIONS COMMISSION

47 CFR Part 15

[ET Docket No. 01-278; FCC 02-211]

Radar Detectors

AGENCY: Federal Communications Commission.

ACTION: Final rule.

SUMMARY: This document requires radar detectors to comply with limits on radiated emissions in the 11.7-12.2 GHz band to prevent interference to satellite services. Radar detectors are required to be approved by the Federal Communications Commission or another designated organization before they can be marketed within the United States.

DATES: Effective August 28, 2002. See § 15.37(k) for Applicability Dates.

FOR FURTHER INFORMATION CONTACT: Hugh Van Tuyl, Office of Engineering and Technology, (202) 418-7506.

SUPPLEMENTARY INFORMATION: This is a summary of the Commission's First Report and Order, ET Docket No. 01-278, FCC 02-211, adopted July 12, 2002, and released July 19, 2002. The full text of this document is available for inspection and copying during regular business hours in the FCC Reference Center (Room CY-A257), 445 12th Street, SW., Washington, DC 20554. The complete text of this document also may be purchased from the Commission's copy contractor, Qualex International, 445 12th Street, SW., Room, CY-B402, Washington, DC 20554. The full text may also be downloaded at: www.fcc.gov. Alternative formats are available to persons with disabilities by contacting Brian Millin at (202) 418-7426 or TTY (202) 418-7365.

Summary of the First Report and Order

1. By this action, the Commission is requiring that radar detectors comply with radiated emission limits in the 11.7-12.2 GHz band under part 15 of the rules, and that all radar detectors be certified to demonstrate compliance with the emission limits before they can be marketed. The requirements will become effective thirty days from the publication of the rules in the Federal Register for radar detectors being manufactured and imported, and sixty days after publication of the rules in the Federal Register for radar detectors being marketed. This action will significantly reduce interference from radar detectors to very small aperture satellite terminals (VSATs.)

2. Most receivers contain one or more oscillators that generate radio frequency signals intended to be used internally within the device in tuning the received signal. These generated signals can radiate from the receiver and have the potential to interfere with other nearby receivers. For this reason, part 15 of the Commission's rules requires certain receivers to meet the radiated emission limits for “unintentional radiators” to minimize the possibility of interference. The current rules require only receivers that tune in the range of 30-960 MHz and Citizen's Band receivers to comply with these limits. Other receivers are not required to comply with the limits, but the rules require that any receiver that causes interference must cease operation. When these requirements were established, most consumer receivers tuned only below 960 MHz. Because there was less probability of receivers that tune above 960 MHz causing interference, the rules did not require such receivers to meet emission limits or to receive an equipment authorization. The emission limit that applies to unintentional radiators other than receivers at frequencies above 960 MHz is a field strength limit of 500 μV/m measured at a distance of 3 meters.

3. Radar detectors that warn of the presence of police speed-measuring radars are currently exempt from complying with the part 15 emission limits because they are receivers that tune only above 960 MHz. They are designed to monitor for the presence of police radar in several frequency bands, including the 10.50-10.55 GHz, 24.05-24.25 GHz and 33.4-36.0 GHz bands. Radar detectors contain a tuning oscillator that operates above the 10.50-10.55 GHz band. In older models this oscillator generally operated on frequencies below the 11.7-12.2 GHz VSAT downlink band, and we have not received complaints of interference to VSATs from such models. However, the potential for radar detectors to interfere with VSATs has recently increased because radar detector manufacturers have begun using oscillators at higher frequencies that place swept frequency emissions within the VSAT downlink band. The purpose of these changes was to enhance detection of police radar while making it more difficult for police to detect the presence of radar detectors in vehicles.

4. On October 15, 2001, the Commission adopted a Notice of Proposed Rule Making and Order (“NPRM”) 66 FR 59209, November 27, 2001, that proposed to make a number of changes to part 15 and other parts of the rules. The NPRM sought comment on whether there is a need to require radar detectors to comply with radiated emission limits to minimize the possibility of interference to authorized services including VSAT operations, and if so, the appropriate limits that should be applied. The NPRM also sought comments on whether there are other receivers that tune above 960 MHz that should be required to comply with emission limits, and if so, the appropriate limits and frequency bands where they should apply. Further, the NPRM sought comment concerning the timeframe for affected receivers that should be required to comply with any new emission limits.

5. We have found that radar detectors being marketed emit high level radio signals that can cause interference to VSATs. Accordingly, we conclude that there is a need for limits on the radiated emissions from radar detectors to protect VSATs from interference. Tests on several radar detectors at the Commission's laboratory found emission levels ranging from 33,000 μV/m to 231,000 μV/m at 3 meters within the VSAT band. The information in the record in this proceeding claims that some radar detector emissions exceed 100,000 μV/m at 3 meters in the VSAT band, which is consistent with our measurements. These levels are far greater than the satellite receive signal levels in the 11.7-12.2 GHz band. These levels are also greater than the levels part 15 permits for some transmitters operating in Industrial, Scientific and Medical (ISM) bands, and are over 200 times greater than the part 15 limit for spurious emissions above 960 MHz. Such levels have a high potential for causing interference to satellite operations, and the information in the record does in fact document many instances of harmful interference caused by radar detectors to satellite operations. VSATs use relatively small receive antenna dishes, on the order of one to two meters, which are less directional and less able to reject signals outside the main receive axis than larger antenna dishes. Also, VSATs are commonly used by small businesses such as stores and gas stations, so they are typically located close to the ground and in close proximity to automobiles. For these reasons, they can not tolerate the levels of interfering signals being emitted by radar detectors.

6. Part 15 requires the operator of an unlicensed device (in this case, the user of a radar detector) to cease operation in the event the device causes harmful interference, even if that device is not subject to specific emission limits. However, identifying each individual source of interference from radar detectors is not practical for a satellite operator because these devices are mobile and therefore interfere intermittently. Further, these interference sources are not under the control of the satellite operator, so in most cases it is not possible for the satellite operator to remedy the interference even if the source could be identified. Under Section 302 of the Communications Act, the Commission has authority to make reasonable regulations governing the interference potential of devices which in their operation are capable of emitting radio frequency radiation in sufficient degree to cause harmful interference to radio communications, and to require devices marketed to comply with these regulations. We conclude that the only reasonable solution to this interference situation is to require radar detectors to comply with emission limits before they are marketed.

7. We will define a radar detector as a receiver designed to signal the presence of radio signals used for determining the speed of motor vehicles because that is the type of device that has caused interference to VSATs and this definition best covers the general range of these products. We do not intend for this definition to encompass the receiver incorporated within a radar transceiver certified under the Commission's rules such as a police radar gun or an anti-collision radar because those devices have not been a source of interference to VSATs.

8. We will require radar detectors to comply with the same limit in the 11.7-12.2 GHz VSAT band that applies to other unintentional radiators operating under part 15 of the rules. This limit is 500 μV/m measured at a distance of 3 meters, and is based on the use of measurement equipment with a 1 MHz measurement bandwidth and an average detector function. As with other part 15 devices, the emission levels measured with a peak detector function may not exceed the average limit by more than 20 dB. This emission limit has a long and successful history of controlling interference to authorized services and will protect VSATs from harmful interference caused by radar detectors in virtually all cases. In those rare cases where radar detector emissions at that level cause harmful interference, the non-interference requirement of § 15.5 will continue to apply. We are applying emission limits in only the VSAT downlink band because the only complaints of interference that we have received are to VSAT receivers in the 11.7-12.2 GHz band. We expect that adopting these limits will result in manufacturers changing receiver local oscillators to frequencies outside this band, so as a practical matter only spurious emissions will fall within the VSAT downlink band. These emissions will typically be far below the emission limit we are adopting and are unlikely to result in harmful interference to VSATs.

9. As stated in part 15 of the rules, we expect manufacturers to use good engineering practice in the design of their equipment and suppress emissions as much as practicable. We will consider modifying the emission limits we are adopting for radar detectors if a need is shown for such changes, such as if interference to VSAT operations or other authorized services occurs. We are also willing to consider, in future proceedings, limiting radar detector primary oscillators to particular frequencies, should that prove necessary to avoid harmful interference.

10. Because many radar detectors being marketed today emit high level signals that can cause interference to VSATs, we conclude that the public interest is best served by requiring that all radar detectors marketed within the United States meet the new emission limits quickly. Accordingly, we are requiring that all radar detectors marketed beginning sixty days after publication of this decision and the associated rules in the Federal Register must comply with the new rules. This plan will provide a reasonable amount of time for manufacturers, wholesalers and retailers to be notified of the rule changes so they can cease marketing non-compliant units. Furthermore, we are requiring that radar detectors imported into the United States or manufactured in this country for use within this country comply with the new rules beginning thirty days after publication of this decision and the associated rules in the Federal Register. In requiring that manufacturing and importation of radar detectors meet the new requirements before the marketing cut-off date, we are providing manufacturers time to introduce compliant models before the sixty-day marketing cutoff. This will also prevent the manufacture or importation of large numbers of non-compliant devices prior to the marketing cutoff date. The new rules will apply only to devices being imported, manufactured and marketed after the specified effective dates. We are not adopting specific rules concerning devices already sold, but such devices will continue to be subject to the non-interference requirement in § 15.5 of the rules.

11. We will require that radar detectors be authorized under our certification procedure because they have been found to emit spurious RF energy at levels that can cause harmful interference to authorized radio services. The certification procedure provides a higher level of oversight of equipment compliance prior to marketing than either the Declaration of Conformity (DoC) or the verification self-approval procedures. As we noted previously, equipment with the potential to create significant interference to communication services requires a higher level of oversight than manufacturer's self-approval. In view of the fact that the new rules we are establishing for radar detectors are clear and the testing methods used to determine compliance with the rules are straightforward, we will permit Telecommunication Certification Bodies (TCBs) to certify them. Allowing TCBs to certify radar detectors will permit manufacturers to obtain an equipment approval in an expeditious manner because manufacturers will have more than one approval body to choose from. The tests that will be required for radar detectors are field strength measurements over a single frequency band, which TCBs accredited to make radiated measurements above 1 GHz are already capable of performing. The staff of the Office of Engineering and Technology will work with TCBs to promptly address any implementation issues which may arise.

12. We recognize that requiring radar detectors to be certified within thirty days after publication of the new rules in the Federal Register may pose some logistical problems for manufacturers. Many radar detectors may already comply with the new emission limits and could thus be certified quickly. However, because many of these units may already be in transit from the manufacturer to wholesalers and retailers, it would be difficult for manufacturers to bring these devices into compliance with the administrative requirements for certified devices within this timeframe. Specifically, all equipment authorized under the certification procedure is required to be labeled with an FCC identification number. In addition, part 15 requires a warning label stating that the device may not cause harmful interference and must accept any interference received, and requires the user's manual to contain a statement that unauthorized changes or modifications could void the user's authority to operate the equipment. It is unlikely that manufacturers could comply with these administrative requirements within thirty days because the time needed to make changes on the assembly line and ship products would generally be greater than thirty days. We believe that the rules' intention to notify customers can be satisfied by other means without causing delays to manufacturers. We will therefore permit radar detectors manufactured or imported within 180 days of the publication of the new rules in the Federal Register to be labeled with the FCC identification number and part 15 warning statement on the individual equipment carton rather than on the device itself, so long as certification has been obtained for those units. In addition, we will not require the statement about unauthorized changes to be placed in the user's manual during this time period. This approach will eliminate the need for manufacturers to cease manufacturing and importing equipment to implement the new labeling requirements, and will provide a practical means to label products that comply with the technical requirements but that were produced without labels.

13. Radar detector manufacturers have offered to provide the Commission with lists of radar detector serial numbers to assist in identifying products manufactured before and after the date on which equipment authorization is required. We believe that such lists could assist us in determining whether radar detectors being marketed were legally manufactured and imported. Accordingly, we will require all parties that manufacture or import radar detectors as of the manufacturing and importation cutoff date we are adopting to supply such lists. The Office of Engineering and Technology will issue a public notice that will ask parties to supply this information once the necessary Office of Management and Budget (OMB) approval to collect this information has been obtained.

14. We disagree with comments that a Further Notice of Proposed Rule Making is needed before we can adopt emission limits for radar detectors because the NPRM did not propose specific regulations. Under the Administrative Procedure Act, it is not necessary for the NPRM to propose specific regulations. Rather, it must include either the terms or substance of the proposed rules, or a description of the subjects and issues involved. The NPRM clearly described the subject and issues involved, which is that we were considering adopting emission limits for radar detectors, and sought comment on the appropriate limits. The large number of comments received from both the satellite industry and the radar detector industry show that parties had adequate notice of potential rule changes, so a Further Notice of Proposed Rule Making is unnecessary.

15. We decline to adopt emission limits for other receivers operating above 960 MHz. There is not sufficient information in the record in this proceeding to justify emission limits for receivers above 960 MHz other than radar detectors. We are adopting emission limits for radar detectors because they have been found to emit high level signals that can cause interference to VSATs. No information was provided to show that similar circumstances exist with other receivers operating above 960 MHz. Therefore, we find that requiring other receivers operating above 960 MHz to comply with emission limits is not necessary at this time. This does not preclude our ability to impose such limits in the future if the need becomes apparent.

Final Regulatory Flexibility Analysis

16. As required by the Regulatory Flexibility Act (RFA),¹ an Initial Regulatory Flexibility Analysis (IRFA) was incorporated in the Notice of Proposed Rule Making, Review of Part 15 and other Parts of the Commission's Rules (NPRM).² The Commission sought written public comments on the proposals in the Notice, including comment on the IRFA.³ This present analysis conforms to the RFA.⁴

¹ See 5 U.S.C. 603. The RFA, see 5 U.S.C. 601 et seq., has been amended by the Contract With America Advancement Act of 1996, Public Law 104-121, 110 Stat. 847 (1996) (CWAAA). Title II of the CWAAA is the Small Business Regulatory Enforcement Fairness Act of 1996 (SBREFA).

² See Notice of Proposed Rule Making and Order in ET Docket No. 01-278, 66 FR 59209 (November 27, 2001).

³ See id.

⁴ See generally 5 U.S.C. 604.

A. Need for, and Objectives of, the First Report and Order

17. Section 11 of the Communications Act of 1934, as amended, and Section 202(h) of the Telecommunications Act of 1996 require the Commission (1) to review biennially its regulations pertaining to telecommunications service providers and broadcast ownership; and (2) to determine whether economic competition has made those regulations no longer necessary in the public interest. The Commission is directed to modify or repeal any such regulations that it finds are no longer in the public interest.

18. As part of the biennial review for the year 2000, the Commission reviewed its regulations pertaining to telecommunications service providers and broadcast ownership and recommended a number of changes to those rules. While not specifically required by statute, the Commission also reviewed parts 2, 15 and 18 of the Commission's Rules as part of this process.⁵

⁵ See 47 CFR parts 2, 15, 18.

19. The First Report and Order requires radar detectors, which have been currently exempt from complying with emission limits, to meet the part 15 limits in the 11.7-12.2 GHz band to avoid causing interference to satellite services.

B. Summary of Significant Issues Raised by Public Comments in Response to the IRFA

20. Comments on the IRFA were received from radar detector manufacturers, who state they are small entities. RADAR Members, a trade association, argues that the adoption of limits across a wide band of spectrum would eliminate radar detectors from the consumer market, and that some companies would be unable to survive in the face of such a regulation. It states that as an alternative, manufacturers will voluntarily reduce emission in the 11.7-12.2 GHz band where interference to satellite operations was actually reported. Cobra Electronics Corporation states that it is a small entity that deserves consideration under the Regulatory Flexibility Act. It states that redesigning its product line, especially considering the very real possibility that doing so would eliminate the market for this product, obviously would be detrimental to small businesses such as Cobra. It further states that there is evidence that the industry is already addressing the satellite interference complaints.

C. Description and Estimate of the Number of Small Entities to Which the Proposed Rules Will Apply

21. The RFA directs agencies to provide a description of and, where feasible, an estimate of the number of small entities that may be affected by the proposed rules, if adopted.⁶ The RFA generally defines the term “small entity” as having the same meaning as the terms “small business,” “small organization,” and “small governmental jurisdiction.”⁷ In addition, the term “small business” has the same meaning as the term “small business concern” under the Small Business Act.⁸ A small business concern is one which: (1) Is independently owned and operated; (2) is not dominant in its field of operation; and (3) satisfies any additional criteria established by the SBA.⁹

⁶ 5 U.S.C. 604.

⁷ 5 U.S.C. 601(6).

⁸ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁹ Small Business Act, 15 U.S.C. 632 (1996).

22. Our present action will affect some manufacturers of radio frequency equipment (RF manufacturers). The U.S. Small Business Administration (SBA) has designated a small business size standard for entities engaged in Radio and Television Broadcasting or Wireless Communications Equipment Manufacturing.¹⁰ According to SBA, such a manufacturer must have 750 or fewer employees in order to qualify as a small business.¹¹ According to Census Bureau data from 1992, there were 858 such firms in the United States, and 778 had 750 or fewer employees.¹²

¹⁰ See 13 CFR 121.201, North American Industrial Classification System (NAICS) code 334220.

¹¹ Id.

¹² See U.S. Department of Commerce, 1992 Census of Transportation, Communications and Utilities (issued May 1995). These data have been updated for year 1997, but without the small business breakout. See Summary, Economic Census, Subject Series: Manufacturing at 1-19 (issued June 2001). By 1997, the census total for firms in this category had increased to 1,096. Id.

D. Description of Projected Reporting, Recordkeeping, and Other Compliance Requirements

23. The First Report and Order requires radar detectors used on vehicles to meet the part 15 emission limits in the 11.7-12.2 GHz band to prevent interference to satellite services. It requires that radar detectors be certified to show that they comply with these requirements before they can be imported or marketed. Certification requires the manufacturer to have the equipment tested for compliance with the rules, and then file an application with the test data and information on the product with the Commission or a designated Telecommunication Certification Body (TCB). The manufacturer must wait until the application is granted before the equipment can be imported or marketed. Equipment that is certified must also be labeled with an FCC identification number and warning label stating that operation of the equipment must cease in the event it causes harmful interference to authorized radio services.

24. As a result of the rule change, some manufacturers will be required to redesign radar detectors to reduce emissions in the 11.7-12.2 GHz band. This could be accomplished by a change in the internal oscillator frequencies. Radar detector manufacturers state that 73 percent of units currently marketed can meet the emission limits in the 11.7-12.2 GHz band, and that the remainder will meet the limit by January 2003.

25. Because many radar detectors being marketed today emit high level signals that can cause interference to VSATs, the First Report and Order requires that all radar detectors marketed within the United States meet the new emission limits beginning sixty days after publication of this decision and the associated rules in the Federal Register must comply with the new rules. This plan will provide a reasonable amount of time for manufacturers, wholesalers and retailers to be notified of the rule changes so they can cease marketing non-compliant units. The First Report and Order also requires that radar detectors imported into the United States or manufactured within this country comply with the new rules beginning thirty days after publication of this decision and the associated rules in the Federal Register. This will provide manufacturers time to introduce compliant models before the sixty-day marketing cutoff. This will also avoid the manufacture or importation of large numbers of non-compliant devices prior to the marketing cutoff date. Manufacturers will be permitted to label radar detectors on the individual carton, rather than on the device itself, for a period of 180 days. In addition, manufacturers will not be required to place a statement about “unauthorized changes” in the instruction manuals until after this time period. These new rules will apply only to devices being imported, manufactured and marketed after the specified effective dates.

26. We are also requiring a one-time filing of radar detector serial numbers to aid in our enforcement of the new rules.¹³

¹³ See ¶ 13, supra.

E. Steps Taken To Minimize Significant Economic Impact on Small Entities, and Significant Alternatives Considered

27. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.¹⁴

¹⁴ See 5 U.S.C. 603(c).

28. The First Report and Order requires emission limits on radar detectors, which will have an impact on small equipment manufacturers. We find that emission limits on radar detectors are necessary because manufacturers have been building them without any suppression on radiated emissions, and the radiated signals have been found to cause interference to satellite radio services. Because interference has been reported only in the 11.7-12.2 GHz satellite band, and in light of comments filed by small businesses in this proceeding, we are requiring radiated emission limits in only the one band. This will minimize the impact on small manufacturers, because emission limits applied across a wide band would require significant redesign of the equipment, which would substantially increase its cost.

29. The effective dates for our actions are necessary for an orderly transition to compliance. Alternative time frames might assist small businesses to comply, yet would be inconsistent with the goal of reducing interfering equipment. Because many radar detectors may already comply with the new emission limits, the requirement to obtain certification within 30 days is not expected to have a significant impact on manufacturers. The impact on small manufacturers will be further reduced by allowing labeling to appear on the individual equipment carton rather than the device for a period of 180 days, because that will permit manufacturers to obtain certification for, and label equipment already in shipment.

30. Finally, we are requiring a one-time filing of serial numbers to aid in our enforcement efforts, and believe that this is a minimal compliance burden.

31. Report to Congress: The Commission will send a copy of the First Report and Order, including this FRFA, in a report to be sent to Congress pursuant to the Congressional Review Act, see 5 U.S.C. 801(a)(1)(A). In addition, the Commission will send a copy of the First Report and Order, including FRFA, to the Chief Counsel for Advocacy of the Small Business Administration. A copy of the First Report and Order and FRFA (or summaries thereof) will also be published in the Federal Register. See 5 U.S.C. 604(b).

32. Pursuant to the authority contained in Sections 4(i), 301, 302, 303(e), 303(f), 303(r), 304 and 307 of the Communications Act of 1934, as amended, 47 USC Sections 154(i), 301, 302, 303(e), 303(f), 303(r), 304, and 307, part 15 of the Commission's Rules is amended.

33. The Commission's Consumer and Governmental Affairs Bureau, Reference Information Center, shall send a copy of this Report and Order, including the Final Regulatory Flexibility Analysis, to the Chief Counsel for Advocacy of the Small Business Administration.

34. When requested by Public Notice, all parties that manufactured or imported radar detectors as of August 28, 2002 of these rules shall supply a list of radar detector models and information on their serial numbers which permits identification of their manufacturing date to the Office of Engineering and Technology. This requirement is subject to OMB review and approval and will become effective after such approval is obtained.

List of subjects in 47 CFR Part 15

Communications equipment, Labeling, Radio, Reporting and recordkeeping requirements.

Federal Communications Commission.
Marlene H. Dortch,
Secretary.

Rule Changes

For the reasons discussed in the preamble, the Federal Communications Commission amends 47 CFR part 15 to read as follows:

PART 15—RADIO FREQUENCY DEVICES

1. The authority citation for part 15 continues to read as follows:

Authority: 47 U.S.C. 154, 302, 303, 304, 307, 336 and 544A.

2. Section 15.3 is amended by adding paragraph (ee) to read as follows:

§ 15.3 Definitions.

* * * * *

(ee) Radar detector. A receiver designed to signal the presence of radio signals used for determining the speed of motor vehicles. This definition does not encompass the receiver incorporated within a radar transceiver certified under the Commission's rules.

3. Section 15.37 is amended by adding paragraph (k) to read as follows:

§ 15.37 Transition provisions for compliance with the rules.

* * * * *

(k) Radar detectors manufactured or imported after August 28, 2002 and marketed after September 27, 2002 shall comply with the regulations specified in this part. Radar detectors manufactured or imported prior to January 27, 2003 may be labeled with the information required by §§ 2.925 and 15.19(a) of this chapter on the individual equipment carton rather than on the device, and are exempt from complying with the requirements of § 15.21.

4. Section 15.101, paragraph (a) is amended by adding a new entry to the table following the entry for “Scanning receiver” and by revising paragraph (b) to read as follows:

§ 15.101 Equipment authorization of unintentional radiators.

(a) * * *

Type of device | Equipment authorization required
| * * * * * * *
Radar detector | Certification.
| * * * * * * *

(b) Only those receivers that operate (tune) within the frequency range of 30-960 MHz, CB receivers and radar detectors are subject to the authorizations shown in paragraph (a) of this section. However, receivers indicated as being subject to Declaration of Conformity that are contained within a transceiver, the transmitter portion of which is subject to certification, shall be authorized under the verification procedure. Receivers operating above 960 MHz or below 30 MHz, except for radar detectors and CB receivers, are exempt from complying with the technical provisions of this part but are subject to § 15.5.

* * * * *

5. Section 15.109 is amended by adding paragraph (h) to read as follows:

§ 15.109 Radiated emission limits.

* * * * *

(h) Radar detectors shall comply with the emission limits in paragraph (a) of this section over the frequency range of 11.7-12.2 GHz.

[FR Doc. 02-19178 Filed 7-26-02; 8:45 am]

BILLING CODE 6712-01-P